DEPARTMENT OF TRANSPORTATION

Federal Aviation Administration

Notice of Availability of the Draft Environmental Assessment and Draft General Conformity Determination for the Proposed Terminal Area Plan and Air Traffic Procedures at Chicago O'Hare International Airport

AGENCY: Federal Aviation Administration, DOT.

ACTION: Notice.

SUMMARY: The Federal Aviation Administration (FAA) announces that the Draft Environmental Assessment (EA) and Draft General Conformity Determination for the Proposed Terminal Action Plan and Air Traffic Procedures for Chicago O'Hare International Airport, Chicago, Illinois is available for public review and comment.

FOR FURTHER INFORMATION CONTACT: Deb Bartell, Manager, Chicago Airports District Office (847) 294-7336.

SUPPLEMENTARY INFORMATION: The Draft EA analyzes and discloses the potential environmental impacts associated with the Proposed Terminal Area Plan and Air Traffic Procedures at Chicago O'Hare International Airport, pursuant to the National Environmental Policy Act.

The FAA will host Public Workshops on the Draft document. An in-person Public Workshop on the Draft EA will be held at Monty's Elegant Banquets at 703 South York Road, Bensenville, IL 60106 from 6:00 p.m. to 9:00 p.m. (Central Daylight Time) on July 12, 2022. A virtual Public Workshop will be held via Zoom at 6:00 p.m. (Central Daylight Time) on July 14, 2022. Registration for the virtual meeting is available on the FAA website, found here: https://www.faa.gov/airports/great_lakes/TAPandATEA/.

Representatives of FAA and its consultants will provide information about the Draft EA. Spanish language translators will be available at the Public Workshops. If you need the assistance of a translator, other than Spanish, please call 312-374-1881 by July 5, 2022.

The comment period is open as of Thursday, June 2, 2022 and closes Monday, July 18, 2022 at midnight. All comments are to be submitted to FAA, care of HMMH, as noted below. Written comments must be postmarked, and emails must be sent by no later than midnight (Central Daylight Time), Monday, July 18, 2022.

The Draft EA is available for review online (https://www.faa.gov/airports/great_lakes/TAPandATEA/) and notices have been provided to local libraries through July 18, 2022:

The FAA requests that comments be submitted online at https://www.faa.gov/airports/great_lakes/TAPandATEA/. Court reporters will be available to record verbal comments at the Public Workshops and copies of comment forms will also be available at the in-person meeting.

Issued in Des Plaines, IL.
Dated: May 31, 2022.
Debra L. Bartell,
Manager, Chicago Airports District Office.

[FR Doc. 2022-11929 Filed 6-2-22; 8:45 am]

BILLING CODE P